FEDERAL RESERVE SYSTEM

12 CFR Parts 208 and 225

[Regulations H and Y; Docket No. R-1055]

Risk-Based Capital Guidelines; Capital Adequacy Guidelines; Capital Maintenance; Capital Treatment of Recourse, Direct Credit Substitutes and Residual Interests in Asset Securitizations

AGENCY: Board of Governors of the Federal Reserve System

ACTION: Final rule; correction

SUMMARY: This document corrects the Federal Reserve's regulatory text of a final rule published in the Federal Register of November 29, 2001 (66 FR 59614), regarding the capital treatment of recourse, direct credit substitutes, and residual interests in asset securitizations. This correction rectifies errors made in Attachment II in Appendix A, part 208 and Appendix A, part 225.

DATES: This correction is effective January 1, 2002.

FOR FURTHER INFORMATION CONTACT: Thomas Boemio, 202-452-2982 or Arleen Lustig, 202-452-2987.

SUPPLEMENTARY INFORMATION:

Correction:

In the final rule FR Doc. No. 01-29179, beginning on 66 FR 59614 in the issue of November 29, 2001, make the following corrections.

PART 208—[CORRECTED]

1. In Appendix A to Part 208, Attachment II, on page 59643:

A. In the column for Components, in the fourth entry under Supplementary Capital, replace the word “stocks” with the word “stock.”

B. In the column for Minimum requirements, the fourth entry is revised to read, “Banks should avoid using minority interests to introduce elements not otherwise qualifying for tier 1 capital.”

C. In the column for Minimum requirements, remove the eleventh entry beginning with “As a general rule * * *” in its entirety.

D. Remove footnote 3 following the table.

PART 225—[CORRECTED]

2. In Appendix A to Part 225, Attachment II, on page 59651:

A. In the column for Minimum requirements, the second entry is revised to read “Organizations should avoid using minority interests to introduce elements not otherwise qualifying for tier 1 capital.”

B. In the column for Minimum requirements, in the eleventh entry of the table, replace the word “banks” with “organizations.”

By order of the Board of Governors of the Federal Reserve System, December 20, 2001.
Jennifer J. Johnson,
Secretary of the Board.

[FR Doc. 01-31887 Filed 12-27-01; 8:45 am]

BILLING CODE 31887-22-S